DEPARTMENT OF TRANSPORTATION

Federal Aviation Administration

14 CFR Part 39

[Docket No. 2003-NM-82-AD; Amendment 39-13722; AD 2004-14-13]

RIN 2120-AA64

Airworthiness Directives; Boeing Model 747-100, 747-200B, 747-200C, 747-200F, 747-300, 747-400, 747-400D, 747-400F, and 747 SR Series Airplanes

AGENCY: Federal Aviation Administration, DOT.

ACTION: Final rule.

SUMMARY: This amendment adopts a new airworthiness directive (AD), applicable to certain Boeing Model 747-100, 747-200B, 747-200C, 747-200F, 747-300, 747-400, 747-400D, 747-400F, and 747 SR series airplanes, that requires inspection of fire extinguisher bottles in the engine and the auxiliary power unit (APU) to determine the part number; and replacement of the fire extinguisher bottles with new fire extinguisher bottles, if necessary. This action is necessary to prevent fractured discharge heads, which could cause the fire extinguishing agent to leak, which could result in an uncontrolled engine fire that could spread to the strut and wing, or an uncontrolled APU fire that could spread to the airplane structure. This action is intended to address the identified unsafe condition.

DATES: Effective August 17, 2004.

The incorporation by reference of certain publications listed in the regulations is approved by the Director of the Federal Register as of August 17, 2004.

ADDRESSES: The service information referenced in this AD may be obtained from Boeing Commercial Airplanes, P.O. Box 3707, Seattle, Washington 98124-2207; or Kidde Aerospace, 4200 Airport Drive NW., Wilson, North Carolina 27896-8630; as applicable. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Sulmo Mariano, Aerospace Engineer, Propulsion Branch, ANM-140S, FAA, Seattle Aircraft Certification Office, 1601 Lind Avenue, SW., Renton, Washington 98055-4086; telephone (425) 917-6501; fax (425) 917-6590.

SUPPLEMENTARY INFORMATION: A proposal to amend part 39 of the Federal Aviation Regulations (14 CFR part 39) to include an airworthiness directive (AD) that is applicable to certain Boeing Model 747-100, 747-200B, 747-200C, 747-200F, 747-300, 747-400, 747-400D, 747-400F, and 747 SR series airplanes was published in the Federal Register on December 8, 2003 (68 FR 68306). That action proposed to require inspection of fire extinguisher bottles in the engine and the auxiliary power unit (APU) to determine the part number; and replacement of the fire extinguisher bottles with new fire extinguisher bottles, if necessary.

Comments

Interested persons have been afforded an opportunity to participate in the making of this amendment. Due consideration has been given to the comments received.

Proposed AD Not Applicable to Fleet

One commenter states that the proposed AD does not apply to its fleet.

Request To Relax Compliance Time for Replacements

Two commenters requested that the FAA relax the requirement to replace any affected fire extinguisher bottles prior to further flight after inspecting to determine the bottles' part number. The commenters state that it is more efficient to inspect first and replace the components later. The commenters further state that many repair stations are qualified to do the inspections, while few of them have the required replacement fire extinguisher bottles on hand because these parts are not widely stocked. The commenters state that the replacements could be accomplished more quickly if any repair station could inspect the fire extinguisher bottles for the part number, rather than only those that have the required replacements. This would allow an operator to know ahead of time how many bottles to procure, and would preclude grounding airplanes and causing schedule disruptions while the required replacement is obtained. This commenter does not believe that safety would be compromised by removing the requirement to replace the fire extinguisher bottles before further flight.

We do not agree with the request to relax the compliance time for replacements. In developing the proposed compliance time of two years for the inspections and any necessary replacements “prior to further flight,” we considered the safety implications, the average utilization of the affected fleet, the practical aspects of an orderly inspection of the fleet during regular maintenance periods, and the availability of required parts. Our intent in proposing two years for the inspections was to allow operators to do the inspections and any necessary replacements during a scheduled maintenance visit. This would allow operators to plan ahead to have sufficient replacements on hand or readily available without grounding the airplane or disrupting schedules should the fire extinguisher bottle need to be replaced. In addition, we do not allow airplanes with known deficient engine fire extinguisher bottles to operate; the master minimum equipment list (MMEL) does not allow airplanes to be dispatched with one engine fire extinguisher bottle that is inoperative. We have not revised the compliance time for the final rule.

Conclusion

After careful review of the available data, including the comments noted above, the FAA has determined that air safety and the public interest require the adoption of the rule as proposed.

Cost Impact

There are approximately 346 airplanes of the affected design in the worldwide fleet. The FAA estimates that 47 airplanes of U.S. registry will be affected by this AD, that it will take approximately 1 work hour per airplane to accomplish the required actions, and that the average labor rate is $65 per work hour. Based on these figures, the cost impact of the AD on U.S. operators is estimated to be $3,055, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-13 Boeing: Amendment 39-13722. Docket 2003-NM-82-AD.

Applicability: Model 747-100, 747-200B, 747-200C, 747-200F, 747-300, 747-400, 747-400D, 747-400F, and 747 SR series airplanes, as listed in Boeing Alert Service Bulletin 747-26A2272, dated January 16, 2003; certificated in any category.

Compliance: Required as indicated, unless accomplished previously.

To prevent fractured discharge heads, which could cause the fire extinguishing agent to leak, which could result in an uncontrolled engine fire that could spread to the strut and wing, or an uncontrolled auxiliary power unit (APU) fire that could spread to the airplane structure, accomplish the following:

Inspection and Replacement

(a) Within two years after the effective date of this AD: Perform an inspection to determine the part number (P/N) of the fire extinguisher bottles in the engine and the APU per the Accomplishment Instructions of Boeing Alert Service Bulletin 747-26A2272, dated January 16, 2003.

Note 1: Boeing Alert Service Bulletin 747-26A2272 refers to Kidde Aerospace Service Bulletin A820400-26-432, dated October 19, 2002; and Kidde Aerospace Service Bulletin A830800-26-433, dated October 19, 2002; as additional sources of service information for accomplishment of the inspection and replacement, if necessary, for Model 747-100, 747-200B, 747-200C, 747-200F, 747-300, 747-400, 747-400D, 747-400F, and 747SR series airplanes; as applicable.

(1) If no “Pre SB A820400-26-432” P/N listed in Table 2 of Kidde Aerospace Service Bulletin A820400-26-432, dated October 19, 2002, is found installed; and if no “Pre SB A830800-26-433” P/N listed in Table 2 of Kidde Aerospace Service Bulletin A830800-26-433, dated October 19, 2002, is found installed; no further action is required by this paragraph.

(2) If any “Pre SB A820400-26-432” P/N listed in Table 2 of Kidde Aerospace Service Bulletin A820400-26-432, dated October 19, 2002, is found installed; or if any “Pre SB A830800-26-433” P/N listed in Table 2 of Kidde Aerospace Service Bulletin A830800-26-433, dated October 19, 2002, is found installed; prior to further flight, replace the fire extinguisher bottle with a new fire extinguisher bottle having the “Post SB” P/N listed in Table 2 of the applicable Kidde Aerospace service bulletin. Do the actions per the Accomplishment Instructions of Boeing Alert Service Bulletin 747-26A2272, dated January 16, 2003.

Parts Installation

(b) As of the effective date of this AD, no person may install on any airplane a Kidde Aerospace fire extinguisher bottle with any “Pre SB A820400-26-432” P/N listed in Table 2 of Kidde Aerospace Service Bulletin A820400-26-432, dated October 19, 2002; or any “Pre SB A830800-26-433” P/N listed in Table 2 of Kidde Aerospace Service Bulletin A830800-26-433, dated October 19, 2002.

Alternative Methods of Compliance

(c) In accordance with 14 CFR 39.19, the Manager, Seattle Aircraft Certification Office (ACO), FAA, is authorized to approve alternative methods of compliance (AMOCs) for this AD.

Incorporation by Reference

(d) The actions shall be done in accordance with Boeing Alert Service Bulletin 747-26A2272, dated January 16, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Effective Date

(e) This amendment becomes effective on August 17, 2004.

Issued in Renton, Washington, on June 30, 2004.
Kalene C. Yanamura,
Acting Manager, Transport Airplane Directorate, Aircraft Certification Service.

[FR Doc. 04-15512 Filed 7-12-04; 8:45 am]

BILLING CODE 4910-13-P